FEDERAL COMMUNICATIONS COMMISSION

[OMB 3060-XXXX]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before January 17, 2017. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION: OMB Control Number: 3060-XXXX.

Title: Improving Reporting for Submarine Cables and Enhanced Submarine Outage Data.

Form Number: FCC Form 5623.

Type of Review: New collection.

Respondents: Business or other for-profit.

Number of Respondents and Responses: 63 respondents; 50 responses.

Estimated Time per Response: 2 hours.

Frequency of Response: Recurring reporting requirement if reporting thresholds are met, we estimate each respondent will file 0.79 reports per year.

Obligation To Respond: Mandatory. Statutory authority for this information collection is contained in 47 U.S.C. 1, 4(j), 4(o), 34-39, 151, 154(i)-(j), 3 U.S.C. 301, and Executive Order No. 10530.

Total Annual Burden: 100 hours.

Total Annual Cost: No Cost.

Privacy Act Impact Assessment: No impact(s).

Nature and Extent of Confidentiality: Outage reports filed with the Commission pursuant to part 4 are presumed confidential. The information in those filings may be shared with the Department of Homeland Security only under appropriate confidential disclosure protections. Other persons seeking disclosure must follow the procedures delineated in 47 CFR 0.457 and 0.459 of the Commission's rules for requests for and disclosure of information. The information collection discussed here does not affect the confidential treatment of information provided to the FCC through NORS reports.

Needs and Uses: Section 151 of the Communications Act of 1934 (Act), as amended, requires the Commission to promote the safety of life and property through the use of wire and radio communications. Additionally, the Cable Landing License Act, Cable Landing License Act (47 U.S.C. 34-39), and Executive Order 10530, provide the Commission with authority to grant, withhold, condition and revoke submarine cable landing licenses. In concert, the Cable Landing License Act and Executive Order provide that the Commission may place conditions on the grant of a submarine cable landing license in order to assure just and reasonable rates and service in the operation and use of cables so licensed. “Just and reasonable service” entails assurance that the cable infrastructure will be reasonably available. Availability of submarine cables is also critically important for national security, and the economy, because submarine cables carry approximately 95 percent of international communications traffic, and are the primary means of connectivity for numerous U.S. states and territories. The data collection requires all submarine cable licensees to report outages through the network outage reporting system (NORS). The general purpose of NORS reporting is to gather sufficient information regarding disruptions to telecommunications to facilitate FCC monitoring, analysis, and investigation of the reliability and security of networks, and to identify and act on potential threats to our Nation's telecommunications infrastructure. The FCC uses this information collection to identify the duration, magnitude, root causes, contributing factors, and preventive measures taken with respect to significant outages, and to take swift remedial action as required in appropriate circumstances. The Commission also maintains an ongoing dialogue with reporting entities, as well as with the industry at large, generally regarding lessons learned from the information collection in order to foster better understanding of the root causes of significant outages, and to explore preventive measures in the future so as to mitigate the potential impact of such outages on the Nation and the American public.

The data will provide the Commission with greater visibility into the availability and health of these networks, allowing it to better track and analyze submarine cable resiliency, and suggest or take appropriate actions when the data so indicate, i.e. before there is a significant problem. Thus, the data will ensure that submarine cable service is just and reasonable, and that critical communications carried across submarine cables continue to promote the safety of life and property, fulfilling the aforementioned statutory obligations.

The NORS information collection (OMB Control No. 3060-0484) is administered by the FCC's Public Safety and Homeland Security Bureau (PSHSB), which maintains an Internet portal for the electronic submission of NORS reports. This electronic filing requirement entails entering the required information using Commission-approved Web-based outage report templates that are available online at the NORS Internet Web portal. The completion of these online templates results in the information being electronically entered into the Commission's NORS reporting data base in real-time.

Federal Communications Commission.
Gloria J. Miles,
Federal Register Liaison Officer, Office of the Secretary.

[FR Doc. 2016-27332 Filed 11-14-16; 8:45 am]

BILLING CODE 6712-01-P